NUCLEAR REGULATORY COMMISSION

[NRC-2013-0105; Docket Nos. 50-325, 50-324, 50-400, 50-261]

Carolina Power & Light Company; Biweekly Notice; Applications and Amendments to Facility Operating Licenses Involving No Significant Hazards Considerations; Correction

AGENCY: Nuclear Regulatory Commission.

ACTION: Notice of Issuance; Correction.

SUMMARY: This document corrects a notice appearing in the Federal Register on May 28, 2013, 78 FR 31982, that inadvertently omitted the reference to Brunswick Steam Electric Plant, Unit 2, in the Federal Register Notice for the Carolina Power & Light Company license amendment request dated April 20, 2013. This action is necessary to include Brunswick Steam Electric Plant, Unit 2, in the Federal Register Notice.

FOR FURTHER INFORMATION CONTACT: Araceli T. Billoch Colón, Office of Nuclear Reactor Regulation, U.S. Nuclear Regulatory Commission, Washington, DC 20555-0001; telephone (301) 415-3302, email: Araceli.Billoch@nrc.gov.

SUPPLEMENTARY INFORMATION: On page 31982, in the first column, lines two through four, are corrected to read from “Docket No. 50-325, Brunswick Steam Electric Plant, Unit 1, Brunswick County, North Carolina” to “Docket Nos. 50-325 and 50-324, Brunswick Steam Electric Plant, Units 1 and 2, Brunswick County, North Carolina.”

Dated in Rockville, Maryland, this 13th day of June 2013.
For the Nuclear Regulatory Commission.
Araceli T. Billoch Colón,
Project Manager, Plant Licensing Branch II-2, Division of Operating Reactor Licensing, Office of Nuclear Reactor Regulation.

[FR Doc. 2013-14879 Filed 6-20-13; 8:45 am]

BILLING CODE 7590-01-P